DEPARTMENT OF THE INTERIOR

Bureau of Land Management

[CO-170-1430-ES: COC 62360]

Notice Of Realty Action; Recreation and Public Purposes Act Classification and Application; Colorado

AGENCY: Bureau Of Land Management, Interior.

ACTION: Notice.

SUMMARY: The following lands in San Juan County, Colorado, have been examined and found suitable for classification for lease and conveyance under the provisions of the Recreation and Public Purposes Act (R&PP), as amended (43 U.S.C. 869 et seq.). The purpose of the classification and application for R&PP lease and potential conveyance is to allow construction and operation of the Kendall Mountain Recreation Area, Silverton, Colorado.

New Mexico Principal Meridian

T. 41 N., R. 7 W.,

Sec. 17: E½, SE¼SW1/4.

Lease and conveyance is consistent with current BLM land use planning and would be in the public interest. The lease/patent, if issued, would be subject to valid existing rights and the following terms, conditions and reservations:

1. Provisions of the Recreation and Public Purposes Act and to all applicable regulations of the Secretary of the Interior.

2. A right-of-way for ditches and canals constructed by the authority of the United States.

3. All minerals should be reserved to the United States, together with the right to prospect for, mine and remove the minerals.

Upon publication of this notice in the Federal Register, the lands will be segregated from all other forms of appropriation under the public land laws, including the general mining laws, except for lease and conveyance under the Recreation and Public Purposes Act and leasing under the mineral leasing laws.

For a period of 45 days from the date of publication of this notice in the Federal Register, interested persons may submit written comments regarding the classification and proposed lease and conveyance of the lands to the Field Manager, San Juan Field Office, 15 Burnett Court, Durango, Colorado, 81301.

Classification Comments: Interested parties may submit comments involving the suitability of the land for a recreation area. Comments on the Classification are restricted to whether the land is suited for the proposal, whether the use will maximize the future use or uses of the land, whether the use is consistent with local planning and zoning, or if the use is consistent with State and Federal programs.

Any adverse comments will be reviewed by the State Director. In the absence of any adverse comments the classification will become effective 60 days from the date of publication of this notice in the Federal Register.

FOR FURTHER INFORMATION CONTACT: Clyde Johnson, San Juan Field Office, phone (970) 385-1352. Documents pertinent to this proposal may be reviewed at the San Juan Field Office, 15 Burnett Court, Durango, Colorado.

Kent Hoffman,
Associate Field Manager.

[FR Doc. 01-7039 Filed 3-20-01; 8:45 am]

BILLING CODE 4310-JB-M